DEPARTMENT OF TRANSPORTATION

Federal Aviation Administration

14 CFR Part 39

[Docket No. FAA-2007-27010; Directorate Identifier 2006-NM-259-AD]

RIN 2120-AA64

Airworthiness Directives; Airbus Model A300 Airplanes; Model A310 Airplanes; and Model A300 B4-600, B4-600R, and F4-600R Series Airplanes, and Model C4-605R Variant F Airplanes (Collectively Called A300-600 Series Airplanes)

AGENCY: Federal Aviation Administration (FAA), Department of Transportation (DOT).

ACTION: Supplemental notice of proposed rulemaking (NPRM); reopening of comment period.

SUMMARY: The FAA is revising an earlier NPRM for an airworthiness directive (AD) that applies to all Airbus Model A300 airplanes and Model A310 airplanes, and certain Airbus Model A300-600 series airplanes. The original NPRM would have superseded an existing AD that currently requires an inspection of the wing and center fuel tanks to determine if certain P-clips are installed and corrective action if necessary; an inspection of electrical bonding points of certain equipment in the center fuel tank for the presence of a blue coat and related investigative and corrective actions if necessary; and installation of new bonding leads and electrical bonding points on certain equipment in the wing, center, and trim fuel tanks, as necessary. The original NPRM proposed to require, for certain airplanes, installation of bonding on an additional bracket. The original NPRM resulted from fuel system reviews conducted by the manufacturer. This new action revises the original NPRM by adding a requirement, for certain airplanes, to modify the fuel/defuel valves on the left-hand wing. We are proposing this supplemental NPRM to ensure continuous electrical bonding protection of equipment in the wing, center, and trim fuel tanks and to prevent damage to wiring in the wing and center fuel tanks, due to failed P-clips used for retaining the wiring and pipes, which could result in a possible fuel ignition source in the fuel tanks.

DATES: We must receive comments on this supplemental NPRM by July 16, 2007.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: U.S. Department of Transportation, Docket Operations, M-30, West Building Ground Floor, Room W12-140, 1200 New Jersey Avenue, SE., Washington, DC 20590.

• Fax: (202) 493-2251.

• Hand Delivery: Room W12-140 on the ground floor of the West Building, 1200 New Jersey Avenue, SE., Washington, DC, between 9 a.m. and 5 p.m., Monday through Friday, except Federal holidays.

Contact Airbus, 1 Rond Point Maurice Bellonte, 31707 Blagnac Cedex, France, for service information identified in this proposed AD.

FOR FURTHER INFORMATION CONTACT: Tom Stafford, Aerospace Engineer, International Branch, ANM-116, FAA, Transport Airplane Directorate, 1601 Lind Avenue, SW., Renton, Washington 98057-3356; telephone (425) 227-1622; fax (425) 227-1149.

SUPPLEMENTARY INFORMATION:

Comments Invited

We invite you to submit any relevant written data, views, or arguments regarding this proposal. Send your comments to an address listed in the ADDRESSES section. Include the docket number “Docket No. FAA-2007-27010; Directorate Identifier 2006-NM-259-AD” at the beginning of your comments. We specifically invite comments on the overall regulatory, economic, environmental, and energy aspects of this supplemental NPRM. We will consider all comments received by the closing date and may amend this supplemental NPRM in light of those comments.

We will post all comments submitted, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Operations office between 9 a.m. and 5 p.m., Monday through Friday, except Federal holidays. The Docket Operations office (telephone (800) 647-5527) is located on the ground floor of the West Building at the street address stated in the ADDRESSES section. Comments will be available in the AD docket shortly after the Docket Management System receives them.

Discussion

The FAA issued a notice of proposed rulemaking (NPRM) (the “original NPRM”) to amend 14 CFR part 39 to include an AD that supersedes AD 2006-15-09, amendment 39-14689 (71 FR 42026, July 25, 2006). The existing AD applies to all Airbus Model A300 airplanes and Model A310 airplanes, and to certain Airbus Model A300-600 series airplanes. The original NPRM was published in the Federal Regisgter on January 25, 2007 (72 FR 3373). The original NPRM proposed to continue to require inspection of the wing and center fuel tanks to determine if certain P-clips are installed and corrective action if necessary; inspection of electrical bonding points of certain equipment in the center fuel tank for the presence of a blue coat and related investigative and corrective actions if necessary; and installation of new bonding leads and electrical bonding points on certain equipment in the wing, center, and trim fuel tanks, as necessary. The original NPRM also proposed to require, for certain airplanes, installation of bonding on an additional bracket.

Actions Since Original NPRM Was Issued

Since we issued the original NPRM, Airbus has issued Service Bulletin A300-28-6064, Revision 01, dated April 3, 2007. We referred to Airbus Service Bulletin A300-28-6064, dated July 28, 2005, as the appropriate source of service information for accomplishing the required actions for Airbus Model A300-600 series airplanes in the original NPRM. Revision 01 of Airbus Service Bulletin A300-28-6064 includes the additional work of modifying the fuel/defuel valves on the left-hand wing. Therefore, we have included in this supplemental NPRM a new paragraph (k) to include this new action. We have also revised Table 1 of this supplemental NPRM to specify that either the original issue or Revision 01 of the service bulletin is acceptable for compliance with the actions previously required for these airplanes by AD 2006-15-09. We have also revised the Costs of Compliance section of this supplemental NPRM to reflect the change in costs related to Revision 01 of this service bulletin.

Comments

We have considered the following comments on the original NPRM.

Request To Use New Revision of Additional Service Bulletin

Airbus requests that we refer to Revision 01 of Airbus Service Bulletin A300-28-6077, dated October 26, 2006, rather than the original issue of that service bulletin, dated July 25, 2005. (In the original NPRM we referred to the original issue of that service bulletin as the appropriate source of service information for doing the following: Installing a new bonding lead(s) on the water drain system of the trim fuel tank, and installing electrical bonding points for certain airplanes.)

We agree with Airbus' request to refer to Revision 01 of Airbus Service Bulletin A300-28-6077. The procedures in Revision 01 of the service bulletin are essentially the same as those in the original issue. Revision 01 adds a modification classification table, makes minor changes to procedures, and changes the work hours and kit prices for certain airplanes. Therefore, we have revised Table 1 of this supplemental NPRM to specify that either the original issue or Revision 01 of the service bulletin is acceptable for compliance. We have also revised the Costs of Compliance section of this supplemental NPRM to reflect the change in costs related to this service bulletin.

Explanation of Changes to Paragraph (m) of the Supplemental NPRM

Since we issued the original NPRM we have issued alternative methods of compliance (AMOCs) for AD 2006-15-09. Therefore, we have revised the AMOCs paragraph of this supplemental NPRM (paragraph (l) of the original NPRM) to state that AMOCs approved previously in accordance with AD 2006-15-09 are approved as AMOCs for the corresponding provisions of this supplemental NPRM.

We have also revised paragraph (m) of this supplemental NPRM (paragraph (l) of the original NPRM) to clarify the appropriate procedure for notifying the principal inspector before using any approved AMOC on any airplane to which the AMOC applies.

FAA's Determination and Proposed Requirements of the Supplemental NPRM

Certain changes discussed above expand the scope of the original NPRM; therefore, we have determined that it is necessary to reopen the comment period to provide additional opportunity for public comment on this supplemental NPRM.

Costs of Compliance

There are about 29 Model A300 airplanes, 63 Model A310 airplanes, and 102 Model A300-600 series airplanes of the affected design in the U.S. fleet. The following table provides the estimated costs, at an average labor rate of $80 per hour, for U.S. operators to comply with this proposed AD. For some actions, the estimated work hours and cost of parts in the following table depend on the airplane configuration.

Estimated Costs
Model | Action | Work hours | Parts | Cost per airplane | Number of U.S.- registered airplanes | Fleet cost
A300 airplanes | Inspect wing and center fuel tanks for P-clips (required by AD 2006-15-09) | 40 | None | $3,200 | 29 | $92,800.
| Install bonding leads/points in wing and center fuel tank (required by AD 2006-15-09) | Between 136 and 155 | Between $3,800 and $5,200 | Between $14,680 and $17,600 | 29 | Between $425,720 and $510,400.
A310 airplanes | Inspect wing and center fuel tanks for P-clips (required by AD 2006-15-09) | 40 | None | $3,200 | 63 | $201,600.
| Install bonding leads/points in wing and center fuel tank (required by AD 2006-15-09) | Between 248 and 285 | Between $8,840 and $9,190 | Between $28,680 and $31,990 | 63 | Between $1,806,840 and $2,015,370.
| Inspect and install bonding leads/points in the trim fuel tank (required by AD 2006-15-09) | Between 53 and 61 | Between $50 and $70 | Between $4,290 and $4,950 | 63 | Between $270,270 and $311,850.
| Install bonding for slat track 11 canister bracket (new proposed action) | 2 | $30 | $190 | 63 | $11,970.
A300-600 series airplanes | Inspect wing and center fuel tanks for P-clips (required by AD 2006-15-09) | 40 | None | $3,200 | 102 | $326,400.
| Install bonding leads/points in wing and center fuel tanks (required by AD 2006-15-09) | Between 157 and 185 | Between $8,840 and $9,190 | Between $21,400 and $23,990 | 102 | Between $2,182,800 and $2,446,980.
| Inspect and install bonding leads/points in the trim fuel tank (required by AD 2006-15-09) | Between 2 and 62 | Between $60 and $520 | Between $220 and $5,480 | 102 | Between $22,440 and $558,960.
| Modify the fuel/defuel valves on the left-hand wing (new proposed action) | 1 | $20 | $100 | 102 | $10,200.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this supplemental NPRM and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14689 (71 FR 42026, July 25, 2006) and by adding the following new airworthiness directive (AD):

Airbus: Docket No. FAA-2007-27010; Directorate Identifier 2006-NM-259-AD.

Comments Due Date

(a) The FAA must receive comments on this AD action by July 16, 2007.

Affected ADs

(b) This AD supersedes AD 2006-15-09.

Applicability

(c) This AD applies to the Airbus airplanes identified in paragraphs (c)(1) and (c)(2) of this AD, certificated in any category.

(1) All Model A300 airplanes and Model A310 airplanes.

(2) Model A300 B4-601, B4-603, B4-620, and B4-622 airplanes; Model A300 B4-605R and B4-622R airplanes; Model A300 F4-605R and F4-622R airplanes; and Model A300 C4-605R Variant F airplanes; except those airplanes identified in paragraphs (c)(2)(i) and (c)(2)(ii) of this AD.

(i) Airplanes not equipped with trim fuel tanks on which Airbus Modifications 12226, 12365, and 12308 have been incorporated in production.

(ii) Airplanes equipped with trim fuel tanks on which Airbus Modifications 12226, 12365, 12308, 12294, and 12476 have been incorporated in production.

Unsafe Condition

(d) This AD results from fuel system reviews conducted by the manufacturer. We are issuing this AD to ensure continuous electrical bonding protection of equipment in the wing, center, and trim fuel tanks and to prevent damage to wiring in the wing and center fuel tanks, due to failed P-clips used for retaining the wiring and pipes, which could result in a possible fuel ignition source in the fuel tanks.

Compliance

(e) You are responsible for having the actions required by this AD performed within the compliance times specified, unless the actions have already been done.

Restatement of the Requirements of AD 2006-15-09

Service Bulletin References

(f) The term “service bulletin,” as used in this AD, means the Accomplishment Instructions of the service bulletins identified in Table 1 of this AD, as applicable.

Table 1.—Service Bulletin References
For Airbus— | And the actions specified in— | Use Airbus Service Bulletin— | Dated—
Model A300 airplanes | Paragraph (g) of this AD | A300-28-0081 | July 20, 2005.
| Paragraph (h) of this AD | A300-28-0079 | September 29, 2005; or Revision 01, dated June 6, 2006. After the effective date of this AD, only Revision 01 may be used.
Model A310 airplanes | Paragraph (g) of this AD | A310-28-2143 | July 20, 2005.
| Paragraph (h) of this AD | A310-28-2142 | August 26, 2005; or Revision 01, dated July 17, 2006. After the effective date of this AD, only Revision 01 may be used.
| Paragraph (i) of this AD | A310-28-2153 | July 20, 2005.
Model A300 B4-601, B4-603, B4-620, and B4-622 airplanes; Model A300 B4-605R and B4-622R airplanes; Model A300 F4-605R and F4-622R airplanes; and Model A300 C4-605R Variant F airplanes | Paragraph (g) of this AD | A300-28-6068 | July 20, 2005.
| Paragraph (h) of this AD | A300-28-6064 | July 28, 2005; or Revision 01, dated April 3, 2007.
| Paragraph (i) of this AD | A300-28-6077 | July 25, 2005; or Revision 01, dated October 26, 2006.

Inspection and Corrective Actions

(g) Within 59 months after August 29, 2006 (the effective date of AD 2006-15-09): Do a general visual inspection of the right and left wing fuel tanks and center fuel tank, if applicable, to determine if any NSA5516-XXND- and NSA5516-XXNJ-type P-clips are installed for retaining wiring and pipes in any tank, and do all applicable corrective actions before further flight after the inspection, by accomplishing all the actions specified in the Service Bulletin.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

Installation of Bonding Leads and Points for Wing and Center Fuel Tanks

(h) Within 59 months after August 29, 2006: Do the actions specified in paragraphs (h)(1) and (h)(2) of this AD, by accomplishing all the actions specified in the Service Bulletin.

(1) In the center fuel tank, if applicable, do a general visual inspection of the electrical bonding points of the equipment identified in the service bulletin for the presence of a blue coat, and do all related investigative and corrective actions before further flight after the inspection.

(2) In the left and right wing fuel tanks and center fuel tank, if applicable, install bonding leads and electrical bonding points on the equipment identified in the service bulletin.

Installation of Bonding Leads and Points for the Trim Fuel Tank

(i) For Model A310 airplanes; Model A300 B4-601, B4-603, B4-620, and B4-622 airplanes; Model A300 B4-605R and B4-622R airplanes; Model A300 F4-605R and F4-622R airplanes; and Model A300 C4-605R Variant F airplanes; equipped with a trim fuel tank: Within 59 months after August 29, 2006, install a new bonding lead(s) on the water drain system of the trim fuel tank and install electrical bonding points on the equipment identified in the service bulletin in the trim fuel tank, by accomplishing all the actions specified in the service bulletin, as applicable.

New Requirements of This AD

Installation of Bonding for Slat Track 11 Canister Bracket

(j) For all Model A310 airplanes on which the actions specified in Airbus Service Bulletin A310-28-2142, dated August 26, 2005, have been done before the effective date of this AD: Within 50 months after the effective date of this AD, install bonding for the slat track 11 canister bracket, in accordance with the Accomplishment Instructions of Airbus Service Bulletin A310-28-2142, Revision 01, dated July 17, 2006.

Modification of the Fuel/Defuel Valves

(k) For all Model A300 B4-601, B4-603, B4-620, and B4-622 airplanes; Model A300 B4-605R and B4-622R airplanes; Model A300 F4-605R and F4-622R airplanes; and Model A300 C4-605R Variant F airplanes: Within 44 months after the effective date of this AD, modify the fuel/defuel valves on the left-hand wing in accordance with the Accomplishment Instructions of Airbus Service Bulletin A300-28-6064, Revision 01, dated April 3, 2007.

Parts Installation

(l) As of August 29, 2006, no person may install any NSA5516-XXND- or NSA5516-XXNJ-type P-clip for retaining wiring and pipes in any wing, center, or trim fuel tank, on any airplane.

Alternative Methods of Compliance (AMOCs)

(m)(1) The Manager, International Branch, ANM-116, Transport Airplane Directorate, FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

(3) AMOCs approved previously in accordance with AD 2006-15-09 are approved as AMOCs for the corresponding provisions of this AD.

Related Information

(n) European Aviation Safety Agency airworthiness directive 2006-0325, dated October 23, 2006, also addresses the subject of this AD.

Issued in Renton, Washington, on June 13, 2007.
Ali Bahrami,
Manager, Transport Airplane Directorate, Aircraft Certification Service.

[FR Doc. E7-11931 Filed 6-19-07; 8:45 am]

BILLING CODE 4910-13-P